DEPARTMENT OF COMMERCE

International Trade Administration

[A-122-838]

Notice of Amended Final Results of Antidumping Duty Administrative Review: Certain Softwood Lumber Products From Canada

AGENCY: Import Administration, International Trade Administration, Department of Commerce.

EFFECTIVE DATE: January 23, 2006.

FOR FURTHER INFORMATION CONTACT: Constance Handley or Salim Bhabhrawala, at (202) 482-0631 or (202) 482-1784, respectively; AD/CVD Operations, Office 1, Import Administration, International Trade Administration, U.S. Department of Commerce, 14th Street & Constitution Avenue, NW., Washington, DC 20230.

SUPPLEMENTARY INFORMATION: On December 12, 2005, the Department of Commerce (the Department) determined that certain softwood lumber products from Canada are being sold in the United States at less than fair value, as provided in section 751(a) of the Tariff Act of 1930, as amended (the Act). See Notice of Final Results of Antidumping Duty Administrative Review: Certain Softwood Lumber Products from Canada, 70 FR 73437 (December 12, 2005) (Final Results). On December 14, 2005, the petitioner,¹ the Abitibi Group ² (Abitibi), Buchanan Lumber Sales Inc.³ (Buchanan), Canfor Corporation ⁴ (Canfor), Weyerhaeuser Company (Weyerhaeuser) and, the Quebec Lumber Manufacturers Association (QLMA) filed timely ministerial error allegations pursuant to 19 CFR 351.224(c)(2). On December 19 and 21, we received rebuttal comments from the petitioner and Canfor. Also on December 21, we received a request from the Canadian Lumber Remanufacturers Association (CLRA) that a spelling error in the name of Brittania Lumber Company Limited be corrected.

¹ The petitioner in this case is the Coalition for Fair Lumber Imports Executive Committee. We note that during the review, submissions have been made interchangeably by the petitioner itself and by the Coalition for Fair Lumber Imports, a domestic interested party. For ease of reference, we will use the term “petitioner” to refer to submissions by either, although we recognize that the Coalition for Fair Lumber Imports is not the actual petitioner.

² Includes Abitibi-Consolidated Inc., Abitibi-Consolidated Company of Canada, Produits Forestiers Petits Paris Inc., Produits Forestiers La Tuque Inc. and Societe en Commandite Opitciwan.

³ Including its affiliates Atikokan Forest Products Ltd., Long Lake Forest Products Inc., Nakina Forest Products Limited, Buchanan Distribution Inc., Buchanan Forest Products Ltd., Great West Timber Ltd., Dubreuil Forest Products Ltd., Northern Sawmills Inc., McKenzie Forest Products Inc., Buchanan Northern Hardwoods Inc., Northern Wood, and Solid Wood Products Inc.

⁴ Including its affiliates and/or subsidiaries, Canfor Wood Products Marketing Ltd., Canadian Forest Products, Ltd., Bois Daaquam Inc./Daaquam Lumber Inc., Lakeland Mills Ltd., The Pas Lumber Company Ltd./Winton Sales, Howe Sound Pulp and Paper Limited Partnership, Winton Global Lumber Ltd., and Skeena Cellulose.

Scope of the Order

The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) Coniferous wood, sawn or chipped lengthwise, sliced or peeled, whether or not planed, sanded or finger-jointed, of a thickness exceeding six millimeters;

(2) Coniferous wood siding (including strips and friezes for parquet flooring, not assembled) continuously shaped (tongued, grooved, rabbeted, chamfered, v-jointed, beaded, molded, rounded or the like) along any of its edges or faces, whether or not planed, sanded or finger-jointed;

(3) Other coniferous wood (including strips and friezes for parquet flooring, not assembled) continuously shaped (tongued, grooved, rabbeted, chamfered, v-jointed, beaded, molded, rounded or the like) along any of its edges or faces (other than wood moldings and wood dowel rods) whether or not planed, sanded or finger-jointed; and

(4) Coniferous wood flooring (including strips and friezes for parquet flooring, not assembled) continuously shaped (tongued, grooved, rabbeted, chamfered, v-jointed, beaded, molded, rounded or the like) along any of its edges or faces, whether or not planed, sanded or finger-jointed.

Although the HTSUS subheadings are provided for convenience and U.S. Customs and Border Protection (CBP) purposes, the written description of the merchandise under investigation is dispositive. Preliminary scope exclusions and clarifications were published in three separate Federal Register notices.

Softwood lumber products excluded from the scope:

Trusses and truss kits, properly classified under HTSUS 4418.90

I-joist beams

Assembled box spring frames

Pallets and pallet kits, properly classified under HTSUS 4415.20

Garage doors

Edge-glued wood, properly classified under HTSUS 4421.90.97.40 (formerly HTSUS 4421.90.98.40)

Properly classified complete door frames

Properly classified complete window frames

Properly classified furniture

Softwood lumber products excluded from the scope only if they meet certain requirements:

Stringers (pallet components used for runners): if they have at least two notches on the side, positioned at equal distance from the center, to properly accommodate forklift blades, properly classified under HTSUS 4421.90.97.40 (formerly HTSUS 4421.90.98.40).

Box-spring frame kits: if they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.

Radius-cut box-spring-frame components, not exceeding 1″ in actual thickness or 83″ in length, ready for assembly without further processing. The radius cuts must be present on both ends of the boards and must be substantial cuts so as to completely round one corner.

Fence pickets requiring no further processing and properly classified under HTSUS 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring ¾ inch or more. U.S. origin lumber shipped to Canada for minor processing and imported into the United States, is excluded from the scope of this order if the following conditions are met: (1) The processing occurring in Canada is limited to kiln-drying, planing to create smooth-to-size board, and sanding, and (2) the importer establishes to CBP's satisfaction that the lumber is of U.S. origin.⁵

⁵ For further clarification pertaining to this exclusion, see the additional language concluding the scope description below.

Softwood lumber products contained in single family home packages or kits,⁶ regardless of tariff classification, are excluded from the scope of the orders if the following criteria are met:

⁶ To ensure administrability, we clarified the language of this exclusion to require an importer certification and to permit single or multiple entries on multiple days, as well as instructing importers to retain and make available for inspection specific documentation in support of each entry.

1. The imported home package or kit constitutes a full package of the number of wooden pieces specified in the plan, design or blueprint necessary to produce a home of at least 700 square feet produced to a specified plan, design or blueprint;

2. The package or kit must contain all necessary internal and external doors and windows, nails, screws, glue, subfloor, sheathing, beams, posts, connectors and, if included in purchase contract, decking, trim, drywall and roof shingles specified in the plan, design or blueprint;

3. Prior to importation, the package or kit must be sold to a retailer of complete home packages or kits pursuant to a valid purchase contract referencing the particular home design plan or blueprint, and signed by a customer not affiliated with the importer;

4. The whole package must be imported under a single consolidated entry when permitted by CBP, whether or not on a single or multiple trucks, rail cars or other vehicles, which shall be on the same day except when the home is over 2,000 square feet;

5. The following documentation must be included with the entry documents:

A copy of the appropriate home design, plan, or blueprint matching the entry;

A purchase contract from a retailer of home kits or packages signed by a customer not affiliated with the importer;

A listing of inventory of all parts of the package or kit being entered that conforms to the home design package being entered;

In the case of multiple shipments on the same contract, all items listed immediately above which are included in the present shipment shall be identified as well.

We have determined that the excluded products listed above are outside the scope of this order provided the specified conditions are met. Lumber products that CBP may classify as stringers, radius cut box-spring-frame components, and fence pickets, not conforming to the above requirements, as well as truss components, pallet components, and door and window frame parts, are covered under the scope of this order and may be classified under HTSUS subheadings 4418.90.40.90, 4421.90.70.40, and 4421.90.98.40. Due to changes in the 2002 HTSUS whereby subheading 4418.90.40.90 and 4421.90.98.40 were changed to 4418.90.45.90 and 4421.90.97.40, respectively, we are adding these subheadings as well.

In addition, this scope language has been further clarified to now specify that all softwood lumber products entered from Canada claiming non-subject status based on U.S. country of origin will be treated as non-subject U.S.-origin merchandise under the antidumping and countervailing duty orders, provided that these softwood lumber products meet the following condition: upon entry, the importer, exporter, Canadian processor and/or original U.S. producer establish to CBP's satisfaction that the softwood lumber entered and documented as U.S.-origin softwood lumber was first produced in the United States as a lumber product satisfying the physical parameters of the softwood lumber scope.⁷ The presumption of non-subject status can, however, be rebutted by evidence demonstrating that the merchandise was substantially transformed in Canada.

⁷ See the scope clarification message (3034202), dated February 3, 2003, to CBP, regarding treatment of U.S.-origin lumber on file in the Central Records Unit, Room B-099 of the main Commerce Building.

⁸ Abitibi Consolidated Company of Canada was inadvertently omitted for the final results.

⁹ We note that Nakina Forest Products Limited is a division of Long Lake Forest Products, Inc., an affiliate of Buchanan Lumber Sales.

¹⁰ Canfor's weighted-average margin is based upon a weighted-average of Canfor's and Slocan's respective cash deposit rates prior to the merger. See Memorandum from Salim Bhabhrawala, International Trade Compliance Analyst to The File, Re: Analysis Memorandum For Canfor Corporation (December 5, 2005). We also note that, during the POR, Sinclar Enterprises Ltd. (Sinclar) acted as an affiliated reseller for Lakeland, an affiliate of Canfor. In this review, we reviewed the sales of Canfor and its affiliates; therefore, Canfor's weighted-average margin applies to all sales of subject merchandise produced by any member of the Canfor Group and sold by Sinclar. As Sinclar also separately requested a review, any sales of subject merchandise produced by another manufacturer and sold by Sinclar will receive the “Review-Specific Average” rate. Finally, we note that Canadian Forest Products, Ltd. is a wholly owned subsidiary of Canfor and will receive Canfor's weighted-average margin.

Amended Final Results

In accordance with section 751(h) of the Act, we have determined that ministerial errors were made in our Final Results margin calculations. For a detailed discussion of the ministerial error allegations and the Department's analysis, see Memorandum to Stephen J. Claeys, Antidumping Duty Administrative Review of Certain Softwood Lumber Products from Canada, regarding Ministerial Error Allegations, dated January 12, 2006, which is on file in the Central Records Unit (“CRU”), room B-099 of the main Department building.

In accordance with section 751(h) of the Act and 19 CFR 351.224(e), we are amending the final results of the antidumping duty administrative review of lumber from Canada to correct these ministerial errors.

The revised weighted-average dumping margins for the period May 1, 2003, through April 30, 2004, are listed below:

Producer/exporter | Original weighted-average margin (percentage) | Amended weighted-average margin (percentage)
Abitibi (and its affiliates Abitibi Consolidated Company of Canada,⁸ Produits Forestiers Petit Paris Inc., Produits Forestiers La Tuque Inc., Produits Forestiers Sagenay Inc. and Societe En Commandite Scierie Opticiwan) | 2.52 | 2.52
Buchanan (and its affiliates Atikokan Forest Products Ltd., Long Lake Forest Products Inc., Nakina Forest Products Limited,⁹Buchanan Distribution Inc., Buchanan Forest Products Ltd., Great West Timber Ltd., Dubreuil Forest Products Ltd., Northern Sawmills Inc., McKenzie Forest Products Inc., Buchanan Northern Hardwoods Inc., Northern Wood, and Solid Wood Products Inc.) | 1.36 | 1.35
Canfor ¹⁰ (and its affiliates Canfor Wood Products Marketing Ltd., Canadian Forest Products, Ltd., Bois Daaquam Inc. / Daaquam Lumber Inc., Lakeland Mills Ltd., The Pas Lumber Company Ltd. / Winton Sales, Howe Sound Pulp and Paper Limited Partnership, Winton Global Lumber Ltd., and Skeena Cellulose) | 4.02 | 4.02
Tembec (and its affiliates Marks Lumber Ltd., Excel Forest Products, Les Industries Davidson Inc., Produits Forestiers Temrex Limited Partnership, Tembec Industries Inc., Spruce Falls Inc.) | 3.09 | 3.09
Tolko (and its affiliates Gilbert Smith Forest Products Ltd., Compwood Products Ltd., and Pinnacle Wood Products Ltd.) | 3.09 | 3.09
Weldwood | 0.61 | 0.61
West Fraser (and its affiliates West Fraser Forest Products Inc. and Seehta Forest Products Ltd.) | 0.51 | 0.51
Weyerhaeuser (and its affiliate Weyerhaeuser Saskatchewan Ltd.) | 4.43 | 4.43

REVIEW-SPECIFIC AVERAGE RATE APPLICABLE TO THE FOLLOWING COMPANIES ¹¹:

¹¹ In the Preliminary Results, we listed companies on the review-specific rate list that did not request a review or have a review requested on them for the current review. Therefore, we have removed the following companies from the review specific-rate list for the final results: AFA Forest Products Inc., Associated Cedar Products, Ivis Wood Products, Lazy S Lumber, Mary's River Lumber, New West Lumber Ltd., Quadra Wood Products Ltd., Schols Cedar Products, Standard Building Products Ltd., Still Creek Forest Products Ltd., Taiga Forest Products, Western Cleanwood Preservers Ltd. and Western Wood Preservers Ltd. All of the above companies participated in the 1st Administrative Review and will continue to receive the review-specific average rate (3.78%) from that review.

2 by 4 Lumber Sales Ltd.

605666 BC Ltd.

9027-7971 Quebec Inc. (Scierie Marcel Dumont)

9098-5573 Quebec Inc. (K.C.B. International)

A. L. Stuckless & Sons Limited

AJ Forest Products Ltd.

Alexandre Cote Ltee.

Allmac Lumber Sales Ltd.

Allmar International

Alpa Lumber Mills Inc.

American Bayridge Corporation

Apex Forest Products, Inc.

Apollo Forest Products Limited

Aquila Cedar Products Ltd.

Arbutus Manufacturing Limited

Ardew Wood Products, Ltd.

Armand Duhamel & Fils Inc.

Ashley Colter (1961) Limited

Aspen Planers Ltd.

Atco Lumber

Atlantic Pressure Treating Ltd.

Atlantic Warehousing Limited/Atlantic Warehousing Ltd.

Atlas Lumber (Alberta) Ltd.

AWL Forest Products

B&L Forest Products Ltd.

Bakerview Forest Products Inc.

Bardeaux et Cedres St-Honore Inc. (Bardeaux et Cedres)

Barrett Lumber Company/Barrett Lumber Company Limited

Barrette-Chapais Ltee.

Barry Maedel Woods & Timber

Bathurst Lumber (Division of UPM-Kymmene Miramichi Inc.)

Beaubois Coaticook Inc.

Blackville Lumber (Division of UPM-Kymmene Miramichi Inc.)

Blanchette et Blanchette Inc.

Bloomfield Lumber Limited

Bois Cobodex (1995) Inc.

Bois De L'Est F.B. Inc.

Bois Granval G.D.S. Inc.

Bois Kheops Inc.

Bois Marsoui G.D.S. Inc.

Bois Neos Inc.

Bois Nor Que Wood Inc.

Boisaco Inc.

Boscus Canada Inc.

Boucher Forest Products Ltd.

Bowater Canadian Forest Products Inc.

Bowater Incorporated

Bridgeside Forest Industries, Ltd.

Bridgeside Higa Forest Industries Ltd.

Brittania Lumber Company Limited

Brouwer Excavating Ltd.

Brunswick Valley Lumber/Brunswick Valley Lumber Inc.

Buchanan Lumber

Busque & Laflamme Inc.

BW Creative Wood

Byrnexco Inc.

C. E. Harrison & Son Ltd./C. E. Harrison & Son Limited

Caledon Log Homes (FEWO)

Caledonia Forest Products Ltd.

Cambie Cedar Products Ltd.

Canadian Lumber Company Ltd.

Cando Contracting Ltd.

Canex International Lumber Sales Ltd.

CanWel Building Materials Ltd.

CanWel Distribution Ltd.

Canyon Lumber Company Ltd.

Cape Cod Wood Siding Inc.

Cardinal Lumber Manufacturing & Sales Inc.

Careau Bois Inc.

Carrier & Begin Inc

Carrier Forest Products Ltd.

Carrier Lumber Ltd.

Carson Lake Lumber

Cattermole Timber

CDS Lumber Products

Cedarland Forest Products Ltd.

Cedrico Lumber Inc. (Bois d'Oeuvre Cedrico Inc.)

Central Cedar Ltd.

Centurion Lumber Manufacturing (1983) Ltd.

Chaleur Sawmills

Chasyn Wood Technologies Inc.

Cheminis Lumber Inc.

Cheslatta Forest Products Ltd.

Chisholm's (Roslin) Ltd.

Choicewood Products Inc.

City Lumber Sales and Services Limited

Clair Industrial Dev. Corp. Ltd./Clair Industrial Development Corp. Ltd.

Clermond Hamel Ltee.

Coast Clear Wood Ltd.

Colonial Fence Mfg. Ltd.

Columbia Mills Ltd.

Comeau Lumber Limited

Commonwealth Plywood Company Ltd. dba Bois Clo-Val (formerly Bois Clo-Val Inc.), W.C. Edwards Lumber (formerly The W.C. Edwards Co., Ltd.) and Les Enterprises Atlas (formerly Les Enterprises Atlas (1985) Inc.)

Cooper Creek Cedar Ltd.

Cottles Island Lumber Co. Ltd.

Cowichan Lumber Ltd.

Crystal Forest Industries Ltd.

Curley Cedar Post & Rail

Cushman Lumber Company Inc.

D.S. McFall Holdings Ltd.

Dakeryn Industries Ltd.

Deep Cove Lumber

Delco Forest Products/Delco Forest Products Ltd.

Delta Cedar Products

Devlin Timber Company (1992) Limited

Devon Lumber Co. Ltd.

Doman Forest Products Limited

Doman Industries Limited

Doman Western Lumber Ltd.

Domexport Inc.

Domtar Inc.

Downie Timber Ltd.

Dunkley Lumber Ltd.

E. Tremblay Et. Fils Ltee.

Eacan Timber Canada Ltd.

Eacan Timber Limited/Eacan Timber Ltd.

Eacan Timber USA Ltd.

East Fraser Fiber Co. Ltd.

Eastwood Forest Products Inc.

Ed Bobocel Lumber 1993 Ltd.

Edwin Blaikie Lumber Ltd.

Elmira Wood Products Limited

Elmsdale Lumber Company Ltd./Elmsdale Lumber Co., Ltd.

ER Probyn Export Ltd.

Errington Cedar Products

Evergreen Empire Mills Incorporated

EW Marketing

F.L. Bodogh Lumber Co. Ltd.

Falcon Lumber Limited

Faulkner Wood Specialties Limited

Federated Co-operatives Limited

Fenclo Ltee.

Finmac Lumber Limited

Fontaine Inc. (dba J.A. Fontaine et fils Incorporee), Bois Fontaine Inc., Gestion Natanis Inc., and Les Placements Jean-Paul Fontaine Ltee.¹²

¹² In the Preliminary Results, we incorrectly listed Les Placements Jean-Paul Fontaine Ltee. as Paul Fontaine Ltee. and also as Les Placements Jean-Paul Fontaine Ltee. To correct this error we have removed Paul Fontaine Ltee. from the review-specific average rate list.

Forex Log & Lumber

Forstex Industries Inc.

Forwest Wood Specialties Inc.

Fraser Pacific Forest Products Inc.

Fraser Pacific Lumber Company

Fraser Papers Inc.

Fraser Pulp Chips Ltd.

Frasierview Cedar Products Ltd.

Frontier Mills Inc.

G.D.S. Valoribois Inc.

Galloway Lumber Co. Ltd.

Gerard Crete & Fils Inc.

Gestofor Inc.

Gogama Forest Products

Goldwood Industries Ltd.

Gorman Bros. Lumber Ltd.

Great Lakes MSR Lumber Ltd.

Greenwood Forest Products

Groupe Lebel

H.A. Fawcett & Son Limited

H.J. Crabbe & Sons Ltd.

Haida Forest Products Ltd.

Hainesville Sawmill Ltd.

Harrison's Home Building Centers

Harry Freeman & Son Ltd./Harry Freeman & Son Limited

Hefler Forest Products Ltd.

Hi-Knoll Cedar Inc.

Hilmoe Forest Products Ltd.

Hoeg Brothers Lumber Ltd.

Holdright Lumber Products Ltd.

Hudson Mitchell & Sons Lumber Inc.

Hughes Lumber Specialties Inc.

Hyak Specialty Wood Products Ltd.

Industrial Wood Specialties

Industries G.D.S. Inc.

Industries Perron Inc.

Interior Joinery Ltd.

International Forest Products Ltd.

Isidore Roy Limited

Ivor Forest Products Ltd.

J&G Logworks

J.A. Turner & Sons (1987) Limited

J.D. Irving, Ltd.

J.S. Jones Timber Ltd.

Jackpine Engineered Wood Products

Jackpine Forest Products Ltd.

Jackpine Group of Companies

Jamestown Lumber Company Limited/Jamestown Lumber Company Ltd.

Jasco Forest Products Ltd.

Jeffery Hanson

Julimar Lumber Co. Limited

Kenora Forest Products Ltd.

Kent Trusses Ltd.

Kenwood Lumber Ltd.

Kispiox Forest Products

Kitwanga Lumber Co. Ltd.

Kruger, Inc.

La Crete Sawmills Ltd.

Lakeburn Lumber Limited

Lamco Forest Products

Landmark Structural Lumber

Landmark Truss & Lumber Inc.

Langely Timber Company Ltd.

Langevin Forest Products, Inc.

Lattes Waska Laths Inc.

Lawsons Lumber Company Ltd.

Lecours Lumber Co. Limited

Ledwidge Lumber Co., Ltd.

Leggett & Platt (B.C.) Ltd.

Leggett & Platt Inc.

Leggett & Platt Ltd.

Les Bois d'Oeuvre Beaudoin & Gauthier Inc.

Les Bois S&P Grondin Inc.

Les Chantiers Chibougamau Ltee

Les Produits Forestiers D. G. Ltee.

Les Produits Forestiers Dube Inc.

Les Produits Forestiers F.B.M. Inc.

Les Produits Forestiers Maxibois Inc.

Les Produits Forestiers Miradas Inc. (Miradas Forest Products Inc.)

Les Scieries Du Lac St-Jean Inc.

Les Scieries Jocelyn Lavoie Inc.

Leslie Forest Products Ltd.

Lignum Ltd.

Lindsay Lumber Ltd.

Liskeard Lumber Limited

Littles Lumber Ltd.

Lonestar Lumber Inc.

Louisiana Pacific Corporation

Lousiana Malakwa

LP Canada Ltd.

LP Engineered Wood Products Ltd.

Lulumco Inc.

Lyle Forest Products Ltd.

M&G Higgins Lumber Ltd.

M.L. Wilkins & Son Ltd.

MacTara Limited

Maibec Industries Inc. (Industries Maibec Inc.)

Manitou Forest Products Ltd.

Maple Creek Saw Mills Inc.

Marcel Lauzon Inc.

Marine Way

Marwood Inc.

Marwood Ltd.

Materiaux Blanchet Inc.

Max Meilleur et Fils Ltee.

McCorquindale Holdings Ltd.

McNutt Lumber Company Ltd.

Mercury Manufacturing Inc.

Meunier Lumber Company Ltd.

MF Bernard Inc.

Mid America Lumber

Mid Valley Lumber Specialties Ltd.

Midway Lumber Mills Ltd.

Mill & Timber Products Ltd.

Millar Western Forest Products Ltd.

Millco Wood Products Ltd.

Miramichi Lumber Products

Mobilier Rustique (Beauce) Inc.

Monterra Lumber Mills Limited

Mountain View Specialty Reload Inc.

Murray A Reeves Forestry Limited

Murray Bros. Lumber Company Limited

N.F. Douglas Lumber Limited/N.F. Douglas Lumber Ltd.

Nechako Lumber Co., Ltd.

Newcastle Lumber Co. Inc.

Nexfor Inc.

Nexfor Norbord

Nicholson and Cates Limited

Nickel Lake Lumber

Norbord Industries Inc.

Norbord Juniper and Norbord's sawmills at La Sarre Senneterre Quebec

NorSask Forest Products Inc.

North American Forest Products/North American Forest Products Ltd.

North American Forest Products Ltd. (Division Belanger)

North Atlantic Lumber Inc.

North Enderby Distribution Ltd. (N.E. Distribution)

North Enderby Timber Ltd.

North Mitchell Lumber Co. Ltd., Saran Cedar

North Shore Timber Ltd.

North Star Wholesale Lumber Ltd.

Northchip Ltd.

Northland Forest Products Ltd.

Olav Haavaldsrud Timber Company Limited

Olympic Industries Inc.

Optibois Inc.

P.A. Lumber & Planning Limited

Pacific Lumber Company

Pacific Lumber Remanufacturing Inc.

Pacific Northern Rail Contractors Corp.

Pacific Specialty Wood Products Ltd. (formerly Clearwood Industries Ltd.)

Pacific Wood Specialties

Pallan Timber Products Ltd.

Palliser Lumber Sales Ltd.

Pan West Wood Products Ltd.

Paragon Ventures Ltd. (Vernon Kiln and Millwork, Ltd. and 582912 BC, Ltd.)

Parallel Wood Products Ltd.

Pastway Planing Limited

Pat Power Forest Products Corporation

Patrick Lumber Company

Paul Vallee Inc.

Peak Forest Products Ltd.

Pharlap Forest Products Inc.

Phoenix Forest Products Inc.

Pleasant Valley Remanufacturing Ltd.

Pope & Talbot Inc./Pope & Talbot Ltd.

Porcupine Wood Products Ltd.

Portbec Forest Products Ltd. (Les Produits Forestiers Portbec Ltee.)

Portelance Lumber Capreol Ltd.

Power Wood Corp.

Precibois Inc.

Preparabois (2003) Inc.

Prime Lumber Limited

Pro Lumber Inc.

P. Proulx Forest Products Inc. (aka Proulx, Proulx Forest Products Inc. and Produits Forestiers P. Proulx Inc.)

Produits Forestiers Arbec Inc.¹³

¹³ On October 13, 2005, we found that Produits Forestiers Arbec Inc. was the successor-in-interest to Unforet Inc. See Notice of Final Results of Antidumping Duty Changed Circumstances Review: Certain Softwood Lumber Products from Canada, 70 FR 59721 (October 13, 2005). We inadvertently omitted the new name in the final results and are including it here.

Promobois G.D.S. Inc.

R. Fryer Forest Products Limited

Raintree Forest Products Inc.

Raintree Lumber Specialties Ltd.

Ramco Lumber Ltd.

Redtree Cedar Products Ltd.

Redwood Value Added Products Inc.

Rembos Inc.

Rene Bernard Inc.

Ridgewood Forest Products Ltd./Ridgewood Forest Products Limited

Rielly Industrial Lumber Inc.

Riverside Forest Products Limited

Rocam Lumber Inc. (Bois Rocam Inc.)

Rojac Cedar Products Inc.

Rojac Enterprises Inc.

Roland Boulanger & Cie Ltee.

Russell White Lumber Limited

Sauder Moldings, Inc. (Ferndale)

Sauder Industries Limited

Scierie A&M St-Pierre Inc.

Scierie Adrien Arseneault Ltee.

Scierie Alexandre Lemay & Fils Inc.

Scierie Chaleur/Scierie Chaleur Associes

Scierie Dion et Fils Inc.

Scierie Gallichan Inc.

Scierie Gauthier Ltee.

Scierie La Patrie, Inc.

Scierie Landrienne Inc.

Scierie Lapointe & Roy Ltee.

Scierie Leduc, Division of Stadacona Inc.

Scierie Nord-Sud Inc. (North-South Sawmill Inc.)

Scierie P.S.E. Inc.

Scierie St. Elzear Inc.

Scierie Tech Inc.

Scieries du Lac St. Jean Inc.

Selkirk Specialty Wood Ltd.

Sexton Lumber/Sexton Lumber Co. Limited

Seycove Forest Products Limited

Seymour Creek Cedar Products Ltd.

Shawood Lumber Inc.

Sigurdson Bros. Logging Company Ltd./Sigurdson Brothers Logging Company Ltd.

Silvermere Forest Products Inc.

Sinclar Enterprises Ltd.*

South Beach Trading Inc.

South River Planing Mills Inc.

South-East Forest Products Ltd.

Spray Lake Sawmills (1980) Ltd.

Spruce Forest Products Ltd.

Spruce Products Ltd.

St. Anthony Lathing Ltd.

Stag Timber

Stuart Lake Lumber Co. Ltd.

Stuart Lake Marketing Inc./Stuart Lake Marketing Corporation

Sunbury Cedar Sales Ltd.

Suncoast Lumber & Milling

Sundance Forest Industries

SWP Industries Inc.

Sylvanex Lumber Products Inc.

Tall Tree Lumber Company

Tarpin Lumber Incorporated

Taylor Lumber Company Ltd.

Teal Cedar Products Ltd.

Teal-Jones Group

Teeda Corp.

Terminal Forest Products Ltd.

T.F. Specialty Sawmill

TFL Forest Ltd./TimberWest Forest Corp./Timber West Forest Company

Timber Ridge Forest Products

TimberWorld Forest Products Inc.

T'loh Forest Products Limited

Top Quality Lumber Ltd.

T. P. Downey & Sons Ltd.

Treeline Wood Products Ltd.

Triad Forest Products

Twin Rivers Cedar Products Ltd.

Tyee Timber Products Ltd.

Uneeda Wood Products

Uniforet Inc.

Uniforet Scierie-Pate

Vancouver Specialty Cedar Products/Vancouver Specialty Cedar Products Ltd.

Vanderhoof Specialty Wood Products

Vandermeer Forest Products (Canada) Ltd.

Vanderwell Contractors (1971) Ltd.

Vanport Canada, Co.

Vernon Kiln and Millwork, Ltd.

Visscher Lumber Inc.

W. C. Edwards Lumber

W. I. Woodtone Industries Inc.

Welco Lumber Corporation

Wentworth Lumber Ltd.

Werenham Forest Products

West Bay Forest Products & Manufacturing Ltd./West Bay Forest Products and Manufacturing Ltd./West Bay Forest Products & Mfg. Ltd.

West Can Rail Ltd.

West Chilcotin Forest Products Ltd.

West Hastings Lumber Products

Western Forest Products Inc.¹⁴

¹⁴ On August 19, 2005, we found that Western Forest Products Inc. and its subsidiaries, WFP Products Limited, WFP Western Lumber Ltd., and WFP Lumber Sales Limited, were the successors-in-interest to Doman Industries Limited, Doman Forest Products Limited, and Doman Western Lumber Ltd. See Notice of Final Results of Antidumping Duty Changed Circumstances Review: Certain Softwood Lumber Products from Canada, 70 FR 48673 (August 19, 2005). We inadvertently omitted the new names in the final results and are including them here.

WFP Forest Products Limited

WFP Lumber Sales Limited

WFP Western Lumber Ltd.

Weston Forest Corp.

West-Wood Industries/West-Wood Industries Ltd.

White Spruce Forst Products Ltd.

Wilfrid Paquet & Fils Ltee.

Wilkerson Forest Products Ltd.

Williams Brothers Limited/Williams Brothers Ltd.

Winnipeg Forest Products, Inc.

Woodko Enterprises, Ltd.

Woodland Forest Products Ltd.

Woodline Forest Products Ltd.

Woodtone Industries Inc.

Woodwise Lumber Ltd.

Wynndel Box & Lumber Co. Ltd.

Zelensky Bros. Forest Products: 2.11, 2.10.

Cash Deposit Rates

Furthermore, the following deposit requirements will be effective upon publication of the amended final results of this administrative review for all shipments of certain softwood lumber products from Canada entered, or withdrawn from warehouse, for consumption on or after the publication date of these final results, as provided by section 751(a) of the Act: (1) For companies covered by this review, the cash deposit rate will be the rate listed above; (2) for previously reviewed or investigated companies not listed above, the cash deposit rate will continue to be the company-specific rate published for the most recent period; (3) if the exporter is not a firm covered in this review, a prior review, or the original less-than-fair-value investigation, but the producer is, the cash deposit rate will be the rate established for the most recent period for the manufacturer of the merchandise; and (4) the cash deposit rate for all other producers or exporters will be 11.54 percent, the “All Others” rate calculated in the Department's recent determination under section 129 of the Uruguay Round Agreement Act. See Notice of Determination Under Section 129 of the Uruguay Round Agreements Act: Antidumping Measures on Certain Softwood Lumber Products from Canada, 70 FR 22636 (May 2, 2005). These deposit requirements shall remain in effect until publication of the final results of the next administrative review.

Assessment Rates

In accordance with 19 CFR 356.8(a), the Department will issue appropriate assessment instructions directly to CBP on or after 41 days following the publication of these amended final results of review to effect the Final Results and these amended final results.

We are issuing and publishing this determination and notice in accordance with sections 751(a)(1), 751(h) and 771(i)(1) of the Act.

Dated: January 12, 2006.
David M. Spooner,
Assistant Secretary for Import Administration.

[FR Doc. E6-653 Filed 1-20-06; 8:45 am]

BILLING CODE 3510-DS-P